DEPARTMENT OF ENERGY

Federal Energy Regulatory Commission

Notice of Removal of CIPS and RIMS From FERC Web Site

June 12, 2003.

Take notice that on July 11, 2003, the Federal Energy Regulatory Commission (FERC) will remove the Commission Issuance Posting System (CIPS) and the Records Information Management System (RIMS) from its Web site at http://www.ferc.gov.

CIPS contains Commission issuances in both WordPerfect and Text format. RIMS contains most documents submitted to or issued by FERC in image format. Both CIPS and RIMS were custom-designed systems with limited enhancement potential and they were increasingly difficult to maintain.

On August 2, 2002, FERC put into production the Federal Energy Regulatory Records Information System (FERRIS). FERRIS was designed to replace both CIPS and RIMS with a system based on current document management, database, and search engine technology.

FERC continued to make both RIMS and CIPS available on its Web site while users became familiar with FERRIS. However, no new documents were added to CIPS or RIMS after FERRIS was put in production. User surveys and web statistics show that usage of both CIPS and RIMS has declined since the introduction of FERRIS.

If you have questions on the termination of RIMS and CIPS, please contact Brooks Carter at (202) 502-8145 or brooks.carter@ferc.gov.

Magalie R. Salas,
Secretary.

[FR Doc. 03-15426 Filed 6-18-03; 8:45 am]

BILLING CODE 6717-01-P